DEPARTMENT OF ENERGY

Federal Energy Regulatory Commission

Combined Notice of Filings No. 2

June 7, 2010.

Take notice that the Commission has received the following Natural Gas Pipeline Rate and Refund Report filings:

Docket Numbers: RP09-809-003.

Applicants: Maritimes & Northeast Pipeline, L.L.C.

Description: Maritimes & Northeast Pipeline, LLC submits Fourteenth Revised Sheet 7 et al. of FERC Gas Tariff, Revised Volume 1.

Filed Date: 06/04/2010.

Accession Number: 20100604-0209.

Comment Date: 5 p.m. Eastern Time on Friday, June 11, 2010.

Docket Numbers: RP10-134-001. RP10-450-001.

Applicants: Columbia Gulf Transmission Company.

Description: Columbia Gulf Transmission Company withdraws its filing dated May 28, 2010 in dockets RP10-134, et al. due to the replacement filing that was made on June 3, 2010, which has been assigned docket number RP10-823.

Filed Date: 06/04/2010.

Accession Number: 20100604-5099.

Comment Date: 5 p.m. Eastern Time on Wednesday, June 16, 2010.

Docket Numbers: RP10-595-002.

Applicants: Columbia Gas Transmission, LLC.

Description: Columbia Gas Transmission, LLC submits tariff filing per 154.203: Baseline Compliance Filing to be effective 4/9/2010.

Filed Date: 06/02/2010.

Accession Number: 20100602-5069.

Comment Date: 5 p.m. Eastern Time on Monday, June 14, 2010.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-14087 Filed 6-10-10; 8:45 am]

BILLING CODE 6717-01-P